DEPARTMENT OF DEFENSE

Department of the Navy

Notice of Intent To Prepare an Environmental Impact Statement (EIS)/Overseas Environmental Impact Statement (OEIS) for Atlantic Fleet Active Sonar Training and To Announce Public Scoping Meetings

AGENCY: Department of the Navy, DoD.

ACTION: Notice.

SUMMARY: Pursuant to Section 102(2)(c) of the National Environmental Policy Act (NEPA) of 1969, as implemented by the Council on Environmental Quality Regulations (40 CFR pts 1500-1508), and Executive Order (EO) 12114, “Environmental Effects Abroad of Major Federal Actions” (44 Fed. Reg. 62,18722 (Mar. 29, 1979)), the Department of the Navy (DON) announces its intent to prepare a combined NEPA EIS and EO 12114, OEIS, to evaluate the potential environmental consequences associated with mine warfare (MIW) and antisubmarine warfare (ASW) active sonar training exercises along the east coast and Gulf of Mexico. The MIW/ASW sonar training exercises include Independent Unit Level Training, Coordinated Unit Level Training, and Strike Group Training exercises. These active sonar training exercises include air, surface, and subsurface sonar platforms that are manned by personnel who require training in order to maintain certification and readiness for deployment. Additionally, effective MIW and ASW are dependent on training involving coordination among these platforms. The EIS/OEIS will consider two Action Alternatives to accomplish these objectives, in addition to the No Action Alternative.

DATES: Public scoping meetings will be held at the following seven sites to receive comments on environmental concerns that should be addressed in the EIS/OEIS:

New London, CT; Chesapeake, VA; Morehead City, NC; Charleston, SC; Jacksonville, FL; Panama City, FL; and Corpus Christi, TX, on the following dates:

1. Monday, October 23, 2006, 5 p.m.-8 p.m., Chesapeake Conference Center, 900 Greenbrier Circle, Chesapeake, VA.

2. Thursday, October 26, 2006, 5 p.m.-8 p.m., American Bank Center, 1901 North Shoreline Boulevard, Corpus Christi, TX.

3. Thursday, November 2, 2006, 5 p.m.-8 p.m., Radisson Hotel New London, 35 Governor Winthrop Boulevard, New London, CT.

4. Tuesday, November 7, 2006, 5 p.m.-8 p.m., Ramada Inn Mandarin, 3130 Hartley Road, Jacksonville, FL.

5. Thursday, November 9, 2006, 5 p.m.-8 p.m., Marriott Bay Point Resort, 4200 Marriott Drive, Panama City, FL.

6. Tuesday, November 14, 2006, 5 p.m.-8 p.m., National Guard Armory, 3609 Bridge Street, Morehead City, NC.

7. Thursday, November 16, 2006, 5 p.m.-8 p.m., Town and Country Inn and Conference Center, 2008 Savannah Highway, Charleston, SC.

Each of the seven scoping meetings will consist of an informal, open house session with information stations staffed by DON representatives. Additional information concerning the meetings will be available on the EIS/OEIS Web page located at: http://www.AFASTEIS.GCSAIC.COM.

FOR FURTHER INFORMATION CONTACT: Atlantic Division Naval Facilities Engineering Command, Attn: Code EV21 (Atlantic Fleet Sonar PM), 6506 Hampton Blvd., Norfolk, Virginia 23508-1278; telephone 1-757-322-4767; Fax 757-322-4894.

SUPPLEMENTARY INFORMATION: The Navy currently uses active sonar for ASW and MIW training associated with ongoing Independent Unit Level Training (single unit events including sonar maintenance), Coordinated Unit Level Training (Intermediate and Squadron events), and Strike Group Training (Composite Training Unit Exercise, Expeditionary Strike Group Exercises, and Joint Task Force Exercises) along the east coast and Gulf of Mexico. The proposed action is to identify areas in which to conduct ASW and MIW active sonar training along the east coast and Gulf of Mexico. The proposed EIS/OEIS will address the potential consequences to the marine environment associated with ASW and MIW active sonar training along the east coast and Gulf of Mexico.

The purpose of the proposed action is to provide and maintain the long-term viability of Navy active sonar training for the U.S. Atlantic Fleet ship, submarine, and aircraft crews to meet deployment requirements and maintain proficiency of ASW and MIW skills, while protecting human health and the environment. The need for the proposed action is to meet the legal mandate for the Chief of Naval Operations to organize, equip, and train all naval forces for combat as directed in 10 U.S.C. 5062. Navy forces must train to deal with the threat of modern quiet submarines; the most effective detection technology available is active sonar detection. In addition, Navy forces must train to detect mines which can prevent access to strategic areas, damage fleet forces, and disrupt commerce.

Three alternatives, which each meet the requirement to train and maintain combat-ready Navy forces, will be analyzed in the EIS/OEIS. The No Action Alternative is the continuation of year-round training within and adjacent to current Navy East Coast and Gulf of Mexico Operating Areas. Two action alternatives evaluate the capability of fixed and seasonal active sonar training areas along the east coast and Gulf of Mexico to meet operational criteria and provide year-round training capacity and fidelity, include short notice and surge deployments of U.S. Atlantic Fleet units. Additionally, the EIS/OEIS may also incorporate other reasonable alternatives that meet the Navy's purpose and need as informed by the public scoping process.

All alternatives would consider the protective measures used during Navy training to minimize potential effects to the marine environment.

The EIS/OEIS will evaluate the potential environmental effects of ASW and MIW active sonar training associated with each alternative. Effects to be addressed will include, but not be limited to, the following:

(1) Physical environment—air and water quality and ambient sound levels.

(2) Biological resources—wildlife, including threatened and endangered species and otherwise protected wildlife such as marine mammals and migratory birds, fish and fisheries, including analysis of essential fish habitat, coastal, marine, and benthic communities, and special biological resource areas.

(3) Socioeconomic resources—including recreational, commercial and industrial activities, safety and occupational health and hazardous materials, airspace, artificial reefs, and cultural resources.

The analysis will include an evaluation of the direct, indirect, short-term, and cumulative impacts.

The Navy is initiating the scoping process to identify public concerns and local issues that should be addressed in the EIS/OEIS. Federal, state, and local agencies and interested persons are encouraged to provide comments to the Navy to identify specific issues or topics of environmental concern. All comments provided at the scoping meetings will be evaluated in developing the scope of the EIS/OEIS.

Written comments on the EIS/OEIS should be postmarked no later than December 1, 2006. Comments may be mailed to Atlantic Division Naval Facilities Engineering Command, Attn: Code EV21 (Atlantic Fleet Sonar PM), 6506 Hampton Boulevard, Norfolk, VA 23508-1278.

Dated: September 26, 2006.
M.A. Harvison,
Lieutenant Commander, Judge Advocate General's Corps, U.S. Navy, Federal Register Liaison Officer.

[FR Doc. E6-16064 Filed 9-28-06; 8:45 am]

BILLING CODE 3810-FF-P